DEPARTMENT OF COMMERCE

National Oceanic and Atmospheric Administration

RIN 0648-XD686

North Pacific Fishery Management Council; Public Meetings

AGENCY: National Marine Fisheries Service (NMFS), National Oceanic and Atmospheric Administration (NOAA), Commerce.

ACTION: Notice of public meetings.

SUMMARY: The North Pacific Fishery Management Council (NPFMC) will hold a Crab Modeling Workshop and a Crab Plan Team meeting. The workshop will be held January 13-15, 2015 with a Crab Plan Team meeting January 16, 2015.

DATES: The workshop will be held January 13-15, 2015, from 9 a.m. to 5 p.m. each day; The Crab Plan Team meeting will be held January 16, 2015, from 9 a.m. to 12 p.m.

ADDRESSES: Both meetings will be held at the Alaska Fishery Science Center AFSC, 7600 Sand Point Way NE., Bldg 4, Traynor Room, Seattle, WA.

Council address: North Pacific Fishery Management Council, 605 W. 4th Avenue, Suite 306, Anchorage, AK 99501-2252.

FOR FURTHER INFORMATION CONTACT: Diana Stram; telephone: (907)271-2809.

SUPPLEMENTARY INFORMATION: The agenda includes:

Modeling Workshop: Work session on the development of the generic crab modeling framework (Gmacs). Goals are to communicate with and receive feedback from stock assessment authors on the development and application of the modeling framework for BSAI crab stocks. The Crab Plan Team meeting will review the stock assessment for Norton Sound Red King Crab and recommend the Overfishing Levels (OFL) and Acceptable Biological Catch (ABC) for 2015/16.

The Agenda is subject to change, and the latest version will be posted at http://www.npfmc.org.

Special Accommodations

These meetings are physically accessible to people with disabilities. Requests for sign language interpretation or other auxiliary aids should be directed to Gail Bendixen at (907) 271-2809 at least 7 working days prior to the meeting date.

Dated: December 22, 2014.
Tracey L. Thompson,
Acting Deputy Director, Office of Sustainable Fisheries, National Marine Fisheries Service.

[FR Doc. 2014-30413 Filed 12-29-14; 8:45 am]

BILLING CODE 3510-22-P